DEPARTMENT OF COMMERCE

National Oceanic and Atmospheric Administration

Scientific Integrity Office; Notice of Availability and Request for Public Comment

AGENCY: Office of Oceanic and Atmospheric Research (OAR), National Oceanic and Atmospheric Administration (NOAA), Department of Commerce (DOC).

ACTION: Notice of availability and request for public comment.

SUMMARY: NOAA Research (OAR) publishes this notice on behalf of the NOAA Scientific Integrity Office to announce the availability of the draft Procedural Handbook to accompany NOAA Administrative Order 202-735D, the scientific integrity policy, for public comment. The draft procedural handbook provides revised NOAA procedures to respond to allegations of scientific and research misconduct.

DATES: Comments on the draft Procedural Handbook must be received by August 29, 2016.

ADDRESSES: The draft Procedural Handbook is available on the NOAA Scientific Integrity Commons Web site at: http://nrc.noaa.gov/ScientificIntegrityCommons. The public is encouraged to submit comments electronically through http://goo.gl/forms/v0uCTvbNo3ueWWc92. For individuals who do not have access to the internet, comments may be submitted in writing to: NOAA Scientific Integrity Office c/o Patricia Hathaway, 1315 East-West Highway, Silver Spring, Maryland 20910.

FOR FURTHER INFORMATION CONTACT: Dr. Cynthia Decker, NOAA Scientific Integrity Officer, NOAA 1315 East-West Highway, Silver Spring, Maryland 20910. Phone: 301 734-1459, during normal business hours of 9 a.m. to 5 p.m. Eastern Time, Monday through Friday, or, visit the NOAA Scientific Integrity Commons at http://nrc.noaa.gov/ScientificIntegrityCommons.

SUPPLEMENTARY INFORMATION: The Presidential Memorandum on Scientific Integrity, the Office of Science and Technology Policy guidance memorandum on scientific integrity, and NOAA's 2011 Scientific Integrity policy call for the highest level of integrity in all aspects of the executive branch's involvement with scientific and technological processes. The draft Procedural Handbook that accompanies NOAA's Scientific Integrity Policy (in NOAA Administrative Order 202-735D) supports these principals by outlining how NOAA will respond to allegations of misconduct. The draft Procedural Handbook is a proposed revision of the original handbook put in place in 2011. This draft Procedural Handbook provides the revised procedures NOAA will follow in responding to allegations of Scientific and Research Misconduct by NOAA employees, NOAA contractors, and external recipients of NOAA financial assistance awards for scientific or research activities. This Procedural Handbook should be read in conjunction with NOAA's Scientific Integrity Policy in NOAA Administrative Order 202-735D.

Dated: July 25, 2016.
Jason Donaldson,
Chief Financial Officer, Office of Oceanic and Atmospheric Research, National Oceanic and Atmospheric Administration.

[FR Doc. 2016-17930 Filed 7-27-16; 8:45 am]

BILLING CODE 3510-KD-P